AGENCY FOR INTERNATIONAL DEVELOPMENT

Privacy Act of 1974, System of Records

AGENCY: United States Agency for International Development.

ACTION: Notice of new system of records.

SUMMARY: The United States Agency for International Development (USAID) is issuing public notice of its intent to establish a new system of records maintained in accordance with the Privacy Act of 1974 (5 U.S.C. 552a), as amended, entitled “USAID-028, Personnel Locator Systems.” This action is necessary to meet the requirements of the Privacy Act to publish in the Federal Register notice of the existence and character of record systems maintained by the agency (5 U.S.C. 522a(e)(4)).

DATES: Public comments must be received on or before October 10, 2008. Unless comments are received that would require a revision, this update to the system of records will become effective on October 20, 2008.

ADDRESSES: You may submit comments:

Paper Comments

• Fax: (703) 666-1466.

• Mail: Chief Privacy Officer, United States Agency for International Development, 1300 Pennsylvania Avenue, NW., Suite 2.12-003, Washington, DC 20523-2120.

Electronic Comments

• Federal eRulemaking Portal: http://www.regulations.gov. Follow the instructions on the Web site for submitting comments.

• E-mail: privacy@usaid.gov.

FOR FURTHER INFORMATION CONTACT: For general questions please contact, Rhonda Turnbow, Deputy Chief Privacy Officer (202) 712-0106.

SUPPLEMENTARY INFORMATION: The Personnel Locator System is being established as an Agency-wide system of record to cover all USAID locator systems. USAID Offices, Bureaus, Missions, or Teams, that desire to collect, maintain or store personnel data under the scope of this system of record will be required to undergo a compliance review and register their system with the USAID Privacy Office.

The system is being established to collect and maintain USAID organizational information, emergency contact information and professional biographical information. The Personnel Locator System will enable USAID to quickly access information required to reach individuals in the event of an urgent situation, conduct continuity of operations planning exercises, and identify individuals with specialized areas of expertise to facilitate professional contacts.

Dated: August 21, 2008.
W. Philip Gordon, Jr.,
Acting Chief Privacy Officer.

USAID-028

SYSTEM NAME:

USAID Personnel Locator System.

SECURITY CLASSIFICATION:

None.

SYSTEM LOCATION(S):

Records are maintained at USAID, 1300 Pennsylvania Avenue, NW., Ronald Reagan Building Suite 2.12, Washington, DC 20523.

CATEGORIES OF INDIVIDUALS COVERED BY THE SYSTEM:

This system contains records of current employees, contractors, consultants, and partners.

CATEGORIES OF RECORDS IN THE SYSTEM:

This system contains USAID organizational information, emergency contact information and professional biographical information. Categories of records include: full name, title, USAID organizational address, building name, room number, bureau, region, mission, country, office telephone numbers, office fax numbers, office e-mail address, employment mechanism, home address, home phone number, alternate phone number, emergency contact name, emergency contact phone number, emergency contact alternate number, program areas of expertise, foreign language skills, professional affiliations, professional certifications, photograph, regional or country-based experience, operational experience and educational experience.

AUTHORITY FOR MAINTENANCE OF THE SYSTEM:

5 U.S.C. 301.

PURPOSE(S):

Records in this system will be used:

(1) To develop and maintain current agency personnel locator and professional directory listings,

(2) To identify and notify individuals employed by USAID when an emergency which occurs after hours requires that he/she report or not report for duty,

(3) To maintain and implement emergency plans, including continuity of operations and facility evacuation plans,

(4) To notify, locate and mobilize individuals as necessary during emergency or other threatening situations,

(5) To notify the designated emergency contact in case of a medical or other emergency event involving an individual,

(6) To identify colleagues by areas of expertise to facilitate mentoring activities with new Foreign Service Officers, and

(7) To identify colleagues with specialized knowledge and/or expertise to participate in collaborative efforts.

DISCLOSURE TO CONSUMER REPORTING AGENCIES:

These records are not disclosed to consumer reporting agencies.

ROUTINE USE OF RECORDS MAINTAINED IN THE SYSTEM, INCLUDING CATEGORIES OF USERS AND THE PURPOSES OF SUCH USES:

In addition to USAID's Statement of Routine uses, records in this system may be disclosed to any Federal Agency, Foreign Government or other entity participating in emergency response activities or providing assistance to USAID with an evacuation, medical emergency, or any other crisis situation.

POLICIES AND PRACTICES FOR STORING, RETRIEVING, ACCESSING, RETAINING, AND DISPOSING OF RECORDS IN THE SYSTEM:

STORAGE:

Records are stored in electronic and paper format.

RETRIEVABILITY:

Records are retrievable by name, location or any other identifier listed in the categories of records cited above.

SAFEGUARDS:

Access to paper records will be provided to those individuals who require hard copy documents in the performance of their duties. Access to electronic records will be restricted to those individuals with a need to know.

RETENTION AND DISPOSAL:

Records will be updated periodically to reflect changes and deleted or destroyed when their use is no longer required.

SYSTEM MANAGER AND ADDRESS:

USAID, Chief Information Officer, 1300 Pennsylvania Ave., NW., RRB Suite 2.12, Washington, DC 20253.

NOTIFICATION PROCEDURES:

Individuals requesting notification of the existence of records on them must send the request in writing to the USAID Chief Privacy Officer, 1300 Pennsylvania Ave., NW., RRB. Suite 2.12-003, Washington, DC 20253. The request must include the requestor's full name, his/her current address and a return address for transmitting the information. The request shall be signed by either notarized signature or by signature under penalty of perjury and reasonably specify the record contents being sought.

RECORD ACCESS PROCEDURES:

Individuals requesting access to a record maintained on them must address the request to the USAID Chief Privacy Officer as described in “Notification Procedures” above.

CONTESTING RECORD PROCEDURES:

Individuals requesting amendment of a record maintained on them must identify the information to be changed and the corrective action sought. Requests must be sent to the USAID Chief Privacy Officer as described in “Notification Procedures” above.

RECORD SOURCE CATEGORIES:

Whenever possible, the records contained in this system will be provided by and updated by the individual who is the subject of the record. Additional sources may include the supervisor of the individual, human resources personnel, or other designated agency personnel.

EXEMPTIONS CLAIMED FOR THE SYSTEM:

None.

[FR Doc. E8-20988 Filed 9-9-08; 8:45 am]

BILLING CODE 6116-01-P